ENVIRONMENTAL PROTECTION AGENCY

[ER-FRL-9027-4]

Environmental Impact Statements; Notice of Availability

Responsible Agency: Office of Federal Activities, General Information (202) 564-7146 or http://www.epa.gov/nepa.

Weekly receipt of Environmental Impact Statements (EISs)

Filed 05/23/2016 Through 05/27/2016

Pursuant to 40 CFR 1506.9.

Notice

Section 309(a) of the Clean Air Act requires that EPA make public its comments on EISs issued by other Federal agencies. EPA's comment letters on EISs are available at: http://www.epa.gov/compliance/nepa/eisdata.html.

EIS No. 20160112, Draft, USFS, MT, Galton Vegetation Management, Comment Period Ends: 07/25/2016, Contact: Ron Komac 406-296-2536 x7130.

EIS No. 20160113, Draft, USFS, MT, Flathead National Forest Plan Revision and Northern Continental Divide Ecosystem Grizzly Bear Conservation Strategy Forest Plan Amendments to the Lolo, Helena, Lewis & Clark, and Kootenai National Forests, Comment Period Ends: 10/03/2016, Contact: Joe Krueger 406-758-5243.

EIS No. 20160114, Final, FHWA, TX, Grand Parkway (State Highway 99) Segment B, Review Period Ends: 07/05/2016, Contact: Carlos Swonke 512-416-2734.

EIS No. 20160115, Draft, DOD, Other, Continental United States (CONUS) Interceptor Site, Comment Period Ends: 07/18/2016, Contact: Christopher Johnson 571-231-8212.

EIS No. 20160116, Final, USACE, FL, Herbert Hoover Dike Dam Safety Modification Study, Review Period Ends: 07/05/2016, Contact: Stacie Auvenshine 904-232-3694.

EIS No. 20160117, Draft, BR, USACE, MT, Lower Yellowstone Intake Diversion Dam Fish Passage Project, Comment Period Ends: 07/18/2016, Contact: Tiffany Vanosdall 402-995-2695.

The U.S. Army Corps of Engineers and the U.S. Department of the Interior's Bureau of Reclamation are joint lead agencies for this project.

EIS No. 20160118, Draft, BLM, CO, Uncompahgre Draft Resource Management Plan, Comment Period Ends: 09/01/2016, Contact: Gina Jones 970-240-5381.

EIS No. 20160119, Draft, USFS, OR, Green Mountain Project, Comment Period Ends: 07/18/2016, Contact: Elysia Retzlaff 541-822-7214.

EIS No. 20160120, Final, USFWS, CA, South Bay Salt Pond Restoration Project Phase 2, Review Period Ends: 07/05/2016, Contact: Chris Barr 510-792-0222.

EIS No. 20160121, Draft, USACE, AZ, Little Colorado River, Winslow, Arizona, Flood Risk Management Project, Comment Period Ends: 07/18/2016, Contact: Kirk Brus 213-452-3876.

EIS No. 20160122, Draft, USFS, AK, Wrangell Island Project, Comment Period Ends: 07/18/2016, Contact: Andrea Slusser 907-874-2323.

EIS No. 20160123, Final, USFS, CO, Spruce Beetle Epidemic and Aspen Decline Management Response, Review Period Ends: 07/05/2016, Contact: Samantha Staley 970-874-6666.

Dated: May 31, 2016.
Dawn Roberts,
Management Analyst, NEPA Compliance Division, Office of Federal Activities.

[FR Doc. 2016-13150 Filed 6-2-16; 8:45 am]

BILLING CODE 6560-50-P